COMMODITY FUTURES TRADING COMMISSION

Technology Advisory Committee

AGENCY: Commodity Futures Trading Commission.

ACTION: Notice of meeting.

SUMMARY: The Commodity Futures Trading Commission (CFTC) announces that on March 22, 2023, from 12:00 p.m. to 4:30 p.m. Eastern Time, the Technology Advisory Committee (TAC or Committee) will hold an in-person public meeting at the CFTC's Washington, DC headquarters with options for the public to attend virtually. At this meeting, the TAC will discuss, among other things, the Committee's structure; formation of subcommittees; and potential topics for the TAC to prioritize in making policy recommendations to the CFTC on issues relating to the impact and implications of technological change in the financial services, derivatives, and commodity markets.

DATES: The meeting will be held on March 22, 2023, from 12:00 p.m. to 4:30 p.m. Eastern Time. Please note that the meeting may end early if the TAC has completed its business. Members of the public who wish to submit written statements in connection with the meeting should submit them by March 29, 2023.

ADDRESSES: The meeting will take place in the Conference Center at the CFTC's headquarters, Three Lafayette Centre, 1155 21st Street NW, Washington, DC 20581, subject to CFTC facility health protocols in place at that time. You may submit public comments, identified by “Technology Advisory Committee,” through the CFTC website at https://comments.cftc.gov. Follow the instructions for submitting comments through the Comments Online process on the website. If you are unable to submit comments online, contact Anthony Biagioli, Designated Federal Officer, via the information listed under FOR FURTHER INFORMATION CONTACT to discuss alternate means of submitting your comments. Any statements submitted in connection with the committee meeting will be made available to the public, including publication on the CFTC website, https://www.cftc.gov.

FOR FURTHER INFORMATION CONTACT: Anthony Biagioli, TAC Designated Federal Officer, Commodity Futures Trading Commission, 2600 Grand Boulevard, Suite 210, Kansas City, MO 64108; (816) 960-7722; or abiagioli@cftc.gov.

SUPPLEMENTARY INFORMATION: The meeting will be open to the public with seating on a first-come, first-served basis. Seating may be limited due to the Centers for Disease Control and Prevention's COVID-19 Community Level, which may require facilitating physical distancing to avoid overcrowding and additional restrictions. Members of the public may also listen to the meeting by telephone by calling a domestic or international toll-free number to connect to a live, listen-only audio feed. Call-in participants should be prepared to provide their first name, last name, and affiliation.

Domestic Numbers: +1 669 254 5252, +1 646 964 1167, +1 646 828 7666, +1 551 285 1373, +1 669 216 1590, +1 415 449 4000, 833 568 8864 (Toll Free), or 833 435 1820 (Toll Free).

International Numbers: Will be posted on the CFTC's website, https://www.cftc.gov, on the page for the meeting, under Related Links.

Call-In/Webinar ID: 161 623 6013.

Pass Code/Pin Code: 862238.

Members of the public may also view a live webcast of the meeting via the www.cftc.gov website. The meeting agenda may change to accommodate other TAC priorities. For agenda updates, please visit https://www.cftc.gov/About/AdvisoryCommittees/TAC#:~:text=The%20Technology%20Advisory%20Committee%20(TAC,of%20technology%20in%20the%20markets.

After the meeting, a transcript of the meeting will be published through a link on the CFTC's website, https://www.cftc.gov. Persons requiring special accommodations to attend the meeting because of a disability should notify the contact person above.

(Authority: 5 U.S.C. 1009(a)(2).)

Dated: February 27, 2023.
Christopher Kirkpatrick,
Secretary of the Commission.

[FR Doc. 2023-04332 Filed 3-1-23; 8:45 am]

BILLING CODE 6351-01-P